DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than March 17, 2016.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Medicare Rural Hospital Flexibility Grant Program Performance.

OMB No.: 0915-0363—Revision.

Abstract: The Medicare Rural Hospital Flexibility Program (Flex) is authorized by Section 1820 of the Social Security Act (42 U.S.C. 1395i-4), as amended. Flex engages 45 state-designated entities in activities relating to planning and implementing rural health care plans and networks; designating facilities as Critical Access Hospitals (CAHs); providing support for CAHs for quality improvement, quality reporting, performance improvements, and benchmarking; and integrating rural emergency medical services (EMS). Given the shifting priorities in health care related to delivery system reform, Flex provides funding for states to also deliver technical assistance in activities supporting population health management and the integration of innovative care models. State-designated Flex programs act as a resource and focal point for these activities, promoting the stability and delivery of high quality health care services for residents in rural communities. Identifying areas for program improvement and enhanced technical assistance in a systematic approach is paramount. The revised measures identified in the Flex Program complement work plan data and take into consideration existing measures and priorities set forth by HHS, avoiding duplication of efforts and minimizing burden as indicated by public comments and programmatic feedback from partners.

Need and Proposed Use of the Information: For this program, measures were revised to provide performance data useful to the Flex Program and provide aggregate program data required by Congress under the Government Performance and Results Act (GPRA) of 2010. These measures cover principal topic areas of interest to the Federal Office of Rural Health Policy (FORHP) including: (a) Quality reporting; (b) quality improvement interventions; (c) financial and operational improvement initiatives; (d) population health management and EMS integration; and (e) innovative care models. Several measures related to critical access hospitals (CAHs) making improvements will be used for this program and will inform FORHP's progress toward meeting the goals set in GPRA. Furthermore, obtaining this information is important for identifying and understanding improvement trends across Flex program areas, prioritizing areas of need with technical assistance and support for grantees, and guiding future iterations of the Flex Program.

Likely Respondents: Respondents will be the Flex Program coordinator for each state participating in the Flex Program. There are currently 45 states participating in the Flex Program.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Medicare Rural Hospital Flexibility Grant Program Performance | 45 | 1 | 45 | 70 | 3,150
Total | 45 | 1 | 45 | 70 | 3,150

Jackie Painter,
Director, Division of the Executive Secretariat.

[FR Doc. 2016-03014 Filed 2-12-16; 8:45 am]

BILLING CODE 4165-15-P